SMALL BUSINESS ADMINISTRATION

[Disaster Declaration #20960 and #20961; TEXAS Disaster Number TX-20043]

Administrative Declaration of a Disaster for the State of Texas

AGENCY: U.S. Small Business Administration.

ACTION: Notice.

SUMMARY: This is a notice of an Administrative declaration of a disaster for the State of Texas dated January 16, 2025.

Incident: Severe Storm, Tornadoes, and Straight-line Winds.

DATES: Issued on January 16, 2025.

Incident Period: December 28, 2024.

Physical Loan Application Deadline Date: March 17, 2025.

Economic Injury (EIDL) Loan Application Deadline Date: October 16, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Brazoria, Montgomery.

Contiguous Counties:

Texas: Fort Bend, Galveston, Grimes, Harris, Liberty, Matagorda, San Jacinto, Walker, Waller, Wharton.

The Interest Rates are:

| Percent
For Physical Damage:
Homeowners with Credit Available Elsewhere | 5.125
Homeowners without Credit Available Elsewhere | 2.563
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 20960C and for economic injury is 209610.

The State which received an EIDL Declaration is Texas.

(Catalog of Federal Domestic Assistance Number 59008)

Everett Woodel,
Acting Administrator.

[FR Doc. 2025-01871 Filed 1-28-25; 8:45 am]

BILLING CODE 8026-09-P